DEPARTMENT OF COMMERCE

National Oceanic and Atmospheric Administration

RIN 0648-XV115

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet November 12, 2019 through November 15, 2019.

DATES: The meetings will be held on Tuesday, November 12, 2019 through Friday, November 15, 2019, from 9 a.m. to 5 p.m., Pacific Time.

ADDRESSES:

Meeting address: The meetings will be held at the Alaska Fishery Science Center in the Traynor Room 2076 and Room 2039, 7600 Sand Point Way NE, Building 4, Seattle, WA 98115. Teleconference numbers and connection information for the online broadcast of the meeting will be posted at the NPFMC web address provided below.

Council address: North Pacific Fishery Management Council, 605 W 4th Ave., Suite 306, Anchorage, AK 99501-2252; telephone: (907) 271-2809.

FOR FURTHER INFORMATION CONTACT: Sara Cleaver or Steve MacLean, Council staff; telephone: (907) 271-2809.

SUPPLEMENTARY INFORMATION:

Agenda

Tuesday, November 12, 2019 to Friday, November 15, 2019

The Bering Sea and Aleutian Islands (BSAI) and Gulf of Alaska (GOA) Plan Teams will compile and review the annual BSAI and GOA Groundfish Stock Assessment and Fishery Evaluation (SAFE) reports, and recommend final groundfish harvest and prohibited species specifications for 2020/2021. The Plan Teams will also review the Economic Report and the Ecosystem Status Report and assessments.

The Agenda is subject to change, and the latest version will be posted at https://meetings.npfmc.org/.

Public Comment

Public comment letters will be accepted and should be submitted either electronically via the electronic agenda: https://meetings.npfmc.org/ or through the mail: North Pacific Fishery Management Council, 605 W 4th Ave., Suite 306, Anchorage, AK 99501-2252. In-person oral public testimony will be accepted at the discretion of the Plan Team co-Chairs.

Special Accommodations

These meetings are physically accessible to people with disabilities. Requests for sign language interpretation or other auxiliary aids should be directed to Shannon Gleason at (907) 271-2809 at least 7 working days prior to the meeting date.

Authority: 16 U.S.C. 1801 et seq.

Dated: October 23, 2019.
Tracey L. Thompson,
Acting Deputy Director, Office of Sustainable Fisheries, National Marine Fisheries Service.

[FR Doc. 2019-23444 Filed 10-25-19; 8:45 am]

BILLING CODE 3510-22-P